DEPARTMENT OF TRANSPORTATION

[Docket No. DOT-OST-2011-0177]

Notice of Submission of Proposed Information Collections to OMB; Agency Request for Renewal of Previously Approved Information Collections: Nondiscrimination on the Basis of Disability in Air Travel

AGENCY: Office of the Secretary (OST), Department of Transportation (Department or DOT).

ACTION: Notice and request for comments.

SUMMARY: In accordance with the Paperwork Reduction Act of 1995, this notice announces the Department of Transportation's (Department or DOT) intention to renew an Office of Management and Budget (OMB) control number for certain information collections. The collections involve requirements for carriers to provide a mechanism on their websites for passengers to provide online notification of their requests for disability accommodation services and for carriers to ensure that a disclaimer is activated when a user clicks a link on a primary website to embedded third-party software or an external website. The disclaimer must inform the user that the software/website in not within the carrier's control and may not follow the same accessibility policies.

DATES: Written comments should be submitted by June 18, 2018.

ADDRESSES: You may submit comments identified by Docket No. DOT-OST-2011-0177 through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: John C. Wood, Office of the General Counsel, Office of the Secretary, U.S. Department of Transportation, 1200 New Jersey Avenue SE, Washington, DC 20590, 202-366-9342 (Voice), 202-366-7152 (Fax), or john.wood@dot.gov (Email). Arrangements to receive this document in an alternative format may be made by contacting the above-named individual.

SUPPLEMENTARY INFORMATION: OMB Control Number: 2105-0571.

Title: Nondiscrimination on the Basis of Disability in Air Travel.

Type of Review: Renewal of information collections.

Background: This notice covers two information collection requirements in the Department's Air Carrier Access Act (ACAA) implementing regulation, 14 CFR part 382 (part 382), Nondiscrimination on the Basis of Disability in Air Travel. Specifically, pursuant to section 382.43(d), covered carriers must provide an online mechanism for passengers to request disability accommodation services (e.g., enplaning/deplaning assistance, deaf/hard of hearing communication assistance, escort to service animal relief area, etc.) for a particular flight. Pursuant to section 382.43(e), covered carriers must also ensure that when a user activates a link on a carrier's primary website to embedded third-party software or to an external website, a disclaimer is displayed notifying the user that the application or website may not be accessible. These requirements became effective on December 12, 2015, and December 12, 2016, respectively. Covered carriers are U.S. and foreign air carriers that operate at least one aircraft having a designed seating capacity of more than 60 passengers and own or control a primary website that markets passenger air transportation or a tour, or tour component that must be purchased with air transportation, to the general public in the United States.¹

¹ While there are approximately 190 U.S. and foreign air carriers that conduct passenger-carrying service to, from, or in the United States with at least one aircraft having a designed seating capacity of more than 60 seats, not all of those carriers have a primary website that markets passenger air transportation to the general public in the U.S. The Department estimates that approximately 165 of those 190 carriers are subject to the Department's web-accessibility requirements as they operate such aircraft and have a primary website that markets to U.S. consumers.

The title, a description of the information collection and respondents, and the periodic reporting burden are set forth below for each of the information collections:

1. Requirement to make a disability accommodation service request function available on the primary website. (14 CFR 382.43(d)).

Each covered carrier must provide a mechanism on its website for passengers to request a disability accommodation service for a future flight and provide advance notice of their request. Carriers may, but need not, require passengers to include contact information on the form in order to follow-up and request more specific information about the passengers' accommodation needs. Carriers may also use the aggregate data from the online service requests to understand and better plan for the volume and types of service requests they receive across time periods and routes, but also are not required to do so. While the content and design of the online service request form is up to the carriers, the Department anticipates that each covered U.S. and foreign carrier that markets scheduled air transportation to the general public in the United States would incur initial costs associated with developing and reviewing a design and implementation plan for the request form, developing, coding, and integrating the form into the website, as well as testing, debugging, and connecting the form with a backend database to store the information. The final regulatory analysis (FRA) for the final rule entitled Nondiscrimination on the Basis of Disability in Air Travel: Accessibility of Websites and Automated Kiosks at U.S. Airports estimated that it will take an average of 32 labor hours per carrier to develop, implement, integrate, connect, and test the online request form. Initial costs are reduced for carriers that rely on a request form developed by another entity. There are no recordkeeping or reporting requirements. However, carriers should use the service request information to facilitate appropriate, timely assistance to their passengers.

Respondents: Certificated U.S. and foreign air carriers operating to, from, and within the United States that operate at least one aircraft having a seating capacity of more than 60 passengers and own or control a primary website that markets air transportation to the general public in the U.S.

Estimated Number of Respondents: 165 U.S. and foreign carriers, of which the Department expects all to have achieved compliance with the requirement in a prior year. The Department estimates that each year there will be 3 new respondent carriers.

Estimated Annual Burden on Respondents: 0 hours per carrier compliant in a prior year, unless the carrier voluntarily elects to modify or improve its form, and 32 hours per carrier creating an online request form.

Estimated Total Annual Burden: 96 hours. This estimate was calculated by multiplying the total number of labor hours per year that a carrier is estimated to spend to develop, implement, integrate, connect, and test the online request form (32) by the estimated number of new respondent carriers each year (3).

Frequency: One-time requirement.

2. Requirement to provide a disclaimer notice to users when clicking a link on a primary website to embedded third-party software or an external website. (14 CFR 382.43(e)).

Carriers must provide a disclaimer notice for each link on their primary website that enables a user to access software or an external website that is not in the carrier's control. The disclaimer notice must be activated the first time a user clicks the link and must notify the user that the application/website is not within the carrier's control and may not follow the same accessibility policies as the primary website. The Department anticipates that each covered U.S. and foreign carrier will incur costs associated with identifying all links on their websites that may require a disclaimer such as developing and reviewing the design and language for the disclaimer notice, as well as developing, testing, and deploying the code to the appropriate web pages.

The incremental labor hours associated with providing the required disclaimer may vary depending on the number of links on the website to which this requirement applies. The FRA estimated that it will take an average of 6 labor hours per carrier to identify the links and then develop, test, and deploy the disclaimer notice on the website. We also estimate that it will take less than 30 minutes per year for a carrier to associate the notice with any new links to external websites or third-party software added to their websites.

Respondents: Certificated U.S. and foreign air carriers operating to, from, and within the United States that operate at least one aircraft having a seating capacity of more than 60 passengers and own or control a primary website that markets air transportation to the general public in the U.S.

Estimated Number of Respondents: 165 U.S. and foreign carriers, of which the Department expects all to have achieved compliance with the requirement in a prior year. The Department estimates that each year there will be 3 new respondent carriers.

Estimated Annual Burden on Respondents: 6 hours for carriers to create, test, and deploy the disclaimer. 30 minutes for carriers compliant in prior years to associate the notice with new links and third-party software.

Estimated Total Annual Burden: 100.5 hours. This estimate was calculated by multiplying the total number of labor hours per year that a carrier is estimated to spend to develop, test, and deploy the online request form (6) by the estimated number of new respondent carriers each year (3). To that total we added the product of the number of hours that we estimated carriers may spend associating the notice with new weblinks (.5 hours) and the number of carriers that are expected to have achieved compliance in a prior year (165).

Frequency: One-time and recurrent requirements.

Public Comments Invited: You are asked to comment on any aspect of this information collection, including: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.48.

Issued in Washington, DC, on April 11, 2018.
Blane A. Workie,
Assistant General Counsel for Aviation Enforcement and Proceedings.

[FR Doc. 2018-08107 Filed 4-17-18; 8:45 am]

BILLING CODE 4910-9X-P